DEPARTMENT OF THE INTERIOR

Bureau of Indian Affairs

[223A2100DD/AAKC001030/A0A501010.999900]

Land Acquisitions; Oneida Nation, West Mason Site, Brown County, Wisconsin

AGENCY: Bureau of Indian Affairs, Interior.

ACTION: Notice.

SUMMARY: The Assistant Secretary—Indian Affairs made a final agency determination to acquire in trust 1.411 acres, more or less, of land known as the West Mason Site in Green Bay, Brown County, Wisconsin, (Site) for the Oneida Nation, (Nation) for gaming and other purposes.

DATES: This final determination was made on September 1, 2022.

FOR FURTHER INFORMATION CONTACT: Ms. Paula L. Hart, Director, Office of Indian Gaming, Mailstop 3543, 1849 C Street NW, Washington, DC 20240, paula.hart@bia.gov, (202) 219-4066.

SUPPLEMENTARY INFORMATION: On the date listed in the DATES section of this notice, the Assistant Secretary—Indian Affairs made a final agency determination to acquire the Site, consisting of 1.411 acres, more or less, in trust for the Nation under the authority of the Indian Reorganization Act of June 18, 1934, 25 U.S.C. 5108.

The Assistant Secretary—Indian Affairs, on behalf of the Secretary of the Interior, will immediately acquire title to the Site in the name of the United States of America in trust for Nation upon fulfillment of all Departmental requirements. The legal description for the West Mason Site is as follows:

That part of Lot Nineteen (19), according to the recorded plat of First Addition to Packerland Subdivision and part of vacated Frontage Road abutting said Lot, in Section Twenty (29), Township Twenty-four (24) North, Range Twenty (20) East of the Fourth Principal Meridian, in the City of Green Bay, West side of Fox River, Brown County, Wisconsin, described as follows:

Beginning at the Northwest corner of said Lot Nineteen (19); thence South 89°47′40″ East 233.70 feet along the North line of said Lot; thence South 0°23′31″ East 261.67 feet on a line which is the center line of a 10 inch thick building wall, prolonged Northerly and Southerly of a building now located on said Lot Nineteen (19); thence South 89°46′17″ West 234.60 feet along the North line of the Frontage Road; thence North 0°11′51″ West 263.43 feet along the West line of Lot Nineteen (19) to the point of beginning.

Authority: This notice is published in the exercise of authority delegated by the Secretary of the Interior to the Assistant Secretary—Indian Affairs by 209 Departmental Manual 8.1, and is published to comply with the requirements of 25 CFR 151.12 (c)(2)(ii) that notice of the decision to acquire land in trust be promptly provided in the Federal Register.

Bryan Newland,
Assistant Secretary—Indian Affairs.

[FR Doc. 2022-19433 Filed 9-7-22; 8:45 am]

BILLING CODE 4337-15-P